DEPARTMENT OF ENERGY

Federal Energy Regulatory Commission

[Docket Nos. EL00-95-045 and EL00-98-042]

San Diego Gas & Electric Company, Complainant, v. Sellers of Energy and Ancillary Services Into Markets Operated by the California Independent System Operator and the California Power Exchange, Respondents: Investigation of Practices of the California Independent System Operator and the California Power Exchange; Notice of Technical Conference

April 24, 2003.

As directed by the Commission Order issued on March 26, 2003, in Docket No. EL00-95-045 and EL00-98-042, 102 FERC ¶ 61,317 (2003), the Federal Energy Regulatory Commission Staff is convening a technical conference to address issues concerning the information that will be submitted with generators' fuel cost allowance claims. Staff will issue an agenda the week of May 12, 2003. The conference will be held at FERC headquarters, 888 First Street, NE. Washington, DC, on May 22, 2003, beginning at 9 a.m.

For additional information concerning the conference, interested persons may contact Leonard Tao at Leonard.Tao@ferc.gov or Rahim Amerkhail at Rahim.Amerkhail@ferc.gov. No telephone communication bridge will be provided at this technical conference.

Magalie R. Salas,
Secretary.

[FR Doc. 03-10622 Filed 4-29-03; 8:45 am]

BILLING CODE 6717-01-P